NATIONAL SCIENCE FOUNDATION

Committee Management; Notice of Establishment

The Chief Operating Officer of the National Science Foundation has determined that the establishment of the following committees: Advisory Committee for Technology, Innovation and Partnerships (#84684), Proposal Review Panel for Innovation and Technology Ecosystems (#84685), Proposal Review Panel for Translational Impacts (#84683), are necessary and in the public interest in connection with the performance of the duties imposed upon the National Science Foundation (NSF) by 42 U.S.C. 1861 et seq. This determination follows consultation with the Committee Management Secretariat, General Services Administration.

Name of Committee: Advisory Committee for Technology, Innovation and Partnerships (#84684).

Nature/Purpose: Advisory Committee for Technology, Innovation and Partnerships—The CHIPS and Science Act establishes a technology, innovation, and partnerships directorate at the National Science Foundation (NSF). This legislation tasks the TIP Directorate with developing a roadmap to guide investment decisions in use-inspired and translational research, working towards the goal of advancing U.S. competitiveness in the identified key technology focus areas and addressing the identified societal, national, and geostrategic challenges. Investments would be in use-inspired research, translation of research results to impact, and education, training, and development of talent in the key technology areas and national, societal, and geostrategic challenges.

Name of Committee: Proposal Review Panel for Innovation and Technology Ecosystems (#84685).

Nature/Purpose: Proposal Review Panel for Innovation and Technology Ecosystems will advise the National Science Foundation (NSF) on the merit of proposals requesting financial support for use-inspired and translational research as well as workforce development in key technology focus and societal and economic challenge areas, innovation ecosystems, public and private partnerships, and other activities supported by Division of Innovation and Technology Ecosystems (ITE) within the Directorate for Technology, Innovation and Partnerships.

Name of Committee: Proposal Review Panel for Translational Impacts (#84683).

Nature/Purpose: Proposal Review Panel for Translational Impacts will advise the National Science Foundation (NSF) on the merit of proposals requesting financial support for translational research and technology development, entrepreneurial education, and other activities supported by the Division of Translational Impacts (TI) within the Directorate for Technology, Innovation and Partnerships.

Responsible NSF Official: Erwin Gianchandani, Assistant Director, Directorate for Technology, Innovation and Partnerships, National Science Foundation, 2415 Eisenhower Avenue, Alexandria, VA 22314. Telephone:703/292-7009

Dated: June 1, 2023.
Crystal Robinson,
Committee Management Officer.

[FR Doc. 2023-12093 Filed 6-5-23; 8:45 am]

BILLING CODE 7555-01-P